DEPARTMENT OF AGRICULTURE

Forest Service

Notice of Meeting; Federal Lands Recreation Enhancement Act, (Title VIII, Pub. L. 108-447)

AGENCY: Pacific Southwest Region, Forest Service, U.S. Department of Agriculture.

ACTION: Notice of meeting.

SUMMARY: The Pacific Southwest Recreation Resource Advisory Committee (Recreation RAC) will hold its first meeting in Sacramento, California. The purpose of this initial meeting is to receive an orientation of the Recreation Enhancement Act, RRAC roles and responsibilities and to develop the process for making recommendations concerning recreation fee proposals on lands managed by the Forest Service and Bureau of Land Management in California.

DATES: The meeting will be held November 5, 2007 from 10 a.m.-5 p.m. and November 6, 2007 from 8 a.m. to 3 p.m.

ADDRESSES: The meeting will be in the Ambassador Room, Vagabond Inn Executive, 2030 Arden Way, Sacramento, CA 95825. Send written comments to Marlene Finley, Designated Federal Official for the Pacific Southwest Region Recreation RAC, 1323 Club Drive, Vallejo, CA 94592, 707-562-8856 or mfinley@fs.fed.us.

FOR FURTHER INFORMATION CONTACT: Marlene Finley, Designated Federal Official, Pacific Southwest Region Recreation RAC, 1323 Club Drive, Vallejo, CA 94592.

SUPPLEMENTARY INFORMATION: The meeting is open to the public. Committee discussion is limited to Forest Service and Bureau of Land Management staff and Committee members. However, persons who wish to bring recreation fee matters to the attention of the Committee may file written statements with the Committee staff before or after the meeting. A public input session will be provided during the meeting and individuals who wish to address the Recreation RAC will have an opportunity at 10 a.m. on November 6. Comments will be limited to three minutes per person. The Recreation RAC is authorized by the Federal Land Recreation Enhancement Act, which was signed into law by President Bush in December 2004.

Dated: October 15, 2007.
Marlene Finley,
Designated Federal Official, Recreation RAC, Pacific Southwest Region.

[FR Doc. E7-20693 Filed 10-19-07; 8:45 am]

BILLING CODE 3410-11-P